DEPARTMENT OF HOUSING AND URBAN DEVELOPMENT

[Docket No. FR-7091-N-03]

60-Day Notice of Proposed Information Collection: Requirements for Designating Housing Projects, OMB Control No.: 2577-0192

AGENCY: Office of the Assistant Secretary for Public and Indian Housing (PIH), HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 18, 2024.

ADDRESSES: Interested persons are invited to submit comments regarding this proposal. Written comments and recommendations for the proposed information collection can be sent to www.regulations.gov. Interested persons are also invited to submit comments regarding this proposal by name and/or OMB Control Number and can be sent to: Colette Pollard, Reports Management Officer, REE, Department of Housing and Urban Development, 451 7th Street SW, Room 8210, Washington, DC 20410-5000; telephone (202) 402-3400 (this is not a toll-free number) or email at Colette.Pollard@hud.gov for a copy of the proposed forms or other available information.

FOR FURTHER INFORMATION CONTACT: Colette Pollard, Reports Management Officer, REE, Department of Housing and Urban Development, 451 7th Street SW, Washington, DC 20410; email Colette.Pollard@hud.gov, telephone (202) 402-3400. This is not a toll-free number. HUD welcomes and is prepared to receive calls from individuals who are deaf or hard of hearing, as well as individuals with speech or communication disabilities. To learn more about how to make an accessible telephone call, please visit https://www.fcc.gov/consumers/guides/telecommunications-relay-service-trs. Copies of available documents submitted to OMB may be obtained from Ms. Pollard.

SUPPLEMENTARY INFORMATION: This notice informs the public that HUD is seeking approval from OMB for the information collection described in Section A.

A. Overview of Information Collection

Title of Information Collection: Requirements for Designating Housing Projects.

OMB Approval Number: 2577-0192.

Type of Request: Revision of currently approved collection.

Form Number: None.

Description of the need for the information and proposed use: The information collection burden associated with designated housing is required by statute. Section 10 of the Housing Opportunity and Extension Act of 1996 modified Section 7 of the U.S. Housing Act of 1937 to require Public Housing Agencies (PHAs) to submit a plan for HUD approval before a project(s) can be designated as either elderly only, disabled only, or elderly and disabled. In this plan, PHAs must document why the designation is needed and provide the following information:

1. Description of the designated housing plan;

2. Justification for the designation;

3. Availability of alternative housing resources for the non-designated population(s);

4. Impact on the availability of accessible housing;

5. A statement that existing tenants in good standing will not be evicted;

6. A statement of the resources that will be made available if the PHA offers voluntary relocation benefits; and

7. Information describing how the DHP is consistent with any outstanding court orders, lawsuits, investigations, Voluntary Compliance Agreements (VCAs), Conciliation Agreements, or Letters of Findings or Determinations, etc., including for example, actions under Title VI of the Civil Rights Act, Section 504 of the Rehabilitation Act, the Age Discrimination Act, the Fair Housing Act, or the Americans with Disabilities Act.

Respondents: State, or Local Government.

Estimated Number of Respondents: 21 for New and Amendment DHPs and 22 for DHP Renewals.

Estimated Number of Responses: 1 per request.

Frequency of Response: As needed for New/Amendment DHPs and every two years for renewals.

Average Hours per Response: 15 hours for New and Amendment DHPs and 3 hours for DHP Renewals

Total Estimated Burdens: 315 hours for New and Amendment DHPs and 66 for DHP Renewals

The previous estimation of 270 annual burden hours has been increased to 315 for New and Amendment DHPs and 66 for DHP Renewals. This change is based on the average number of Plans submitted between Calendar Years 2022 and 2023. In FY22 and FY23, several Public Housing Authorities (PHAs) failed to renew their DHP in a timely manner, leading to a slight uptick in the number of respondents, as these PHAs were required to submit new plans for approval. Furthermore, HUD anticipates a continued decline in the number of respondents due to the ongoing trend in PHAs repositioning their developments and exiting the public housing program.

The national average PHA staff salary = $64,590 ¹ per year or $31.00 per hour. The calculation for costs is as follows:

¹ Ziprecruiter.com, available at https://www.ziprecruiter.com/Salaries/Public-Housing-Authority-Salary.

• New and Amendment DHPs: 21 PHAs × 15 hours = 315 hours × $31 ² = $9,765.

² Computed Hourly Rates of Pay Using the 2,087-Hour Divisor, available at https://www.opm.gov/policy-data-oversight/pay-leave/pay-administration/fact-sheets/computing-hourly-rates-of-pay-using-the-2087-hour-divisor/.

• DHP Renewals: 22 PHAs × 3 hours = 66 hours × $31 = $2,046.

Information collection | Number of respondents | Frequency of response | Responses per annum | Burden hour per response | Annual burden hours | Hourly cost per response | Annual cost
2577-0192 (New/Amendment) | 21 | 1 | 21 | 15 | 315 | $31.00 | $9,765
2577-0192 Renewal | 22 | 1 | 22 | 3 | 66 | 31.00 | 2,046

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comments in response to these questions.

C. Authority

Section 3507 of the Paperwork Reduction Act of 1995, 44 U.S.C. Chapter 35.

Lora Routt,
Director, Office of Policy, Program and Legislative Initiatives.

[FR Doc. 2024-21220 Filed 9-17-24; 8:45 am]

BILLING CODE 4210-67-P